DEPARTMENT OF LABOR

Office of the Secretary; Submission for OMB Emergency Review; Comment Request

April 28, 2000.

The Department of Labor has submitted the following (see below) information collection request (ICR), utilizing emergency review procedures, to the Office of Management and Budget (OMB) for review and clearance in accordance with the Paperwork Reduction Act of 1995 Public Law 104-12, 44 U.S.C. Chapter 35). OMB approval has been requested by May 5, 2000. A copy of this ICR, with applicable supporting documentation may be obtained by calling the Department of Labor Departmental Clearance Officer, Ira Mills (202) 219-5095 x129.

Comments and questions about the ICR listed below should be forwarded to the Office of Information and Regulatory Affairs, Attn: OMB Desk Officer for the Employment and Training Administration, Office of Management and Budget, Room 10235, Washington, D.C. 20503 (202) 395-7316.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who respond, including through the use of appropriate automated, electronic, mechanical, or other technological collection techniques or other forms of information technology, e.g. permitting electronic submissions of responses.

Agency: Employment and Training Administration.

Title: WIA Transition Summer Report.

OMB Number: 1205-0New.

Frequency: End of summer.

Affected Public: State, Local, or Tribal Government.

Number of Respondents: 696.

Estimated Time Per Respondent: 1 hour.

Total Burden Hours: 696.

Description: The Employment and Training Administration (ETA) has oversight responsibilities for the Summer Youth Employment Opportunities under the Workforce Investment Act (WIA) (P.L. 102-367). As part of this oversight effort, the summer participation levels will be monitored. The State and service delivery area participant data will be reported at the end of Program Year 2000 Quarter 1 (September 30, 2000). The participant data will reflect JTPA Title II-B participants who terminate prior to July 1, 2000, JTPA Title II-B participants who are transitioned to WIA on July 1, 2000, and youth who register for the summer employment opportunities component of WIA through the end of the report period (September 30, 2000). JTPA Title II-B participants who receive only objective assessment and individual service strategy services will not be included in the participant reports.

Ira Mills,
Departmental Clearance Officer.

[FR Doc. 00-11122 Filed 5-3-00; 8:45 am]

BILLING CODE 4510-30-M